DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Coastal Zone Management Program Administration.

OMB Control Number: 0648-0119.

Form Number(s): None.

Type of Request: Regular (revision and extension of a currently approved) information collection.

Number of Respondents: 34.

Average Hours per Response: Performance reports, 27 hours; assessment and strategy documents, 240 hours; Section 306A questionnaire and documentation, 15 hours; amendments and routine program changes, 16 hours; CNP documentation, 320 hours; CZMA Performance Management System, 24 hours.

Burden Hours: 6,280.

Needs and Uses: This request is for revision and extension of a currently approved information.

In 1972, in response to intense pressure on United States (U.S.) coastal resources, and because of the importance of U.S. coastal areas, the U.S. Congress passed the Coastal Zone Management Act of 1972 (CZMA), 16 U.S.C. 1451 et seq. The CZMA authorized a federal program to encourage coastal states and territories to develop comprehensive coastal management programs. The CZMA has been reauthorized on several occasions, most recently with the enactment of the Coastal Zone Protection Act of 1996. (CZMA as amended). The program is administered by the Secretary of Commerce, who in turn has delegated this responsibility to the National Oceanic and Atmospheric Administration's (NOAA) National Ocean Services (NOS).

The coastal zone management grants provide funds to states and territories to: Implement federally-approved coastal management programs; complete information for the Coastal Zone Management Program (CZMP) Performance Management System; develop multi-year program assessments and strategies to enhance their programs within priority areas under Section 309 of the CZMA; submit documentation as described in the CZMA Section 306A on the approved coastal zone management programs; submit requests to update their federally-approved programs through amendments or program changes; and develop and submit state coastal nonpoint pollution control programs (CNP) as required under Section 6217 of the Coastal Zone Act Reauthorization Amendments.

Revisions

1. The CZMA Section 306A guidance and project questionnaire have been updated to reduce confusion. The 306A Guidance and project questionnaire currently in use were developed in 1999 and need to be updated to ensure consistency with NOAA/NOS environmental compliance policies or grants requirements, and CZMA national strategic priorities, such as community resilience. The revised 306A guidance and questionnaire will provide clarification on the collection of project information and resolve confusion over grants management timelines. The current guidance and proposed revisions can be found at https://coast.noaa.gov/czm/guidance/. Based on recent experience, the time estimate for completing the questionnaire and collecting the necessary documentation is being increased from 5 hours to 15 hours per project.

An electronic system is being developed to improve the routine program change submission process and will replace the current paper-only submission process. The new site will provide the following functionalities: Make active program change documents electronically available to the public, states and federal agencies; Provide electronic notices to state agencies, federal agencies and the public of state program change submissions, OCM decision deadlines and OCM decisions; Automatically notify federal agencies, states and members of the public who request such notifications via email; Allow federal agencies and the public to submit comments to OCM on individual state program change submissions; Allow ability of OCM staff to upload text-searchable PDF documents that are part of program changes. These uploads need to be allowable on a daily basis, and need to be uploaded into a publicly available database. The database should have the ability to contain information for each program change (as in what is currently included in the Microsoft Access database) and to hold associated program change documents; Allow the ability to provide electronic notices to state agencies, federal agencies and the public by adding the notices to the online database and also automatically sending them to a particular list of contacts; and Provide an area on the website/database interface for interested parties to request to be added to the automatic notification contact list. The system is currently being designed and will undergo beta testing later this year. Respondents will have the ability to make their submissions using the new system or by paper until the system is fully operational and accurate, which is expected to be within one year.

Affected Public: State, local or tribal governments.

Frequency: Annually, semi-annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 21, 2018.
Sarah Brabson,
NOAA PRA Clearance Officer.

[FR Doc. 2018-28209 Filed 12-27-18; 8:45 am]

BILLING CODE 3510-08-P